DEPARTMENT OF ENERGY

Federal Energy Regulatory Commission

[Project No. 2210-142]

Appalachian Power Company, Virginia; Notice of Extension of Time To File Comments

September 26, 2006.

On September 21, 2006, the Federal Energy Regulatory Commission issued a Notice of Application for Non-Project Use of Project Lands and Waters and Soliciting Comments, Motions to Intervene, and Protests for the Smith Mountain Pumped Storage Project in the above-referenced proceeding. The notice requested that comments regarding the application be filed with the Commission by October 6, 2006. The comment period should have been 30 days from the date the notice was issued. Accordingly, the deadline for filing comments is extended to and including October 23, 2006.

Magalie R. Salas,
Secretary.

[FR Doc. E6-16148 Filed 9-29-06; 8:45 am]

BILLING CODE 6717-01-P